DEPARTMENT OF HOUSING AND URBAN DEVELOPMENT

[Docket No. FR-4663-C-06]

Notice Inviting Applications: Designation of Forty Renewal Communities; Technical Correction

AGENCY: Office of the Assistant Secretary for Community Planning and Development, HUD.

ACTION: Notice inviting applications; technical correction.

SUMMARY: On August 7, 2001, HUD published a Notice inviting applications for designation of nominated areas as Renewal Communities. This document corrects an error in the Notice by removing arson from the list of offenses counted in determining the Crime Index and the Local Crime Index.

DATES: Application Due Date: The extended application due date of November 2, 2001, in accordance with the Notice of Extension published on September 25, 2001 (66 FR 49032), continues to apply.

FOR FURTHER INFORMATION CONTACT: John Haines, Renewal Community Initiative, Office of Community Planning and Development, Department of Housing and Urban Development, 451 Seventh Street, SW, Room 7130, Washington, DC 20410, (202) 708-6339. Persons with hearing or speech disabilities may call (800) 877-8339 (the Federal Information Relay Service-TTY).

SUPPLEMENTARY INFORMATION: On August 7, 2001 (66 FR 41432), HUD published a Notice Inviting Applications for Designation of Forty Renewal Communities. The Notice, in section III.C.3.d.ii. at 66 FR 41437, includes arson in the list of offenses that must be included when determining the Local Crime Index (LCI) in a nominated area for purposes of comparing the LCI to the FBI's Crime Index (CI).

Although the offense of arson is included as part of the FBI's Uniform Crime Reporting (UCR) system, it is not included in the Crime Index determination because the reporting for arson is not as consistent as for other offenses. The reference to arson in the Notice is, therefore, being removed. In addition, a correction making conforming changes to the July 9, 2001 (66 FR 35850) interim rule for Designation of Renewal Communities is published elsewhere in this issue of the Federal Register.

Accordingly, FR Doc. 01-19652, Notice Inviting Applications: Designation of Forty Renewal Communities, (FR-4663-N-02), published in the Federal Register on August 7, 2001 (66 FR 41432), is corrected as follows:

On page 41437, second column, the last complete sentence of section III.C.3.d.ii. is revised to read as follows: “The offenses used in determining the CI, and which therefore must be used in determining the LCI, are the violent crimes of murder and nonnegligent manslaughter, forcible rape, robbery, and aggravated assault, and the property crimes of burglary, larceny-theft, and motor vehicle theft.”

Dated: October 10, 2001.
Roy A. Bernardi,
Assistant Secretary for Community Planning and Development.

[FR Doc. 01-26022 Filed 10-16-01; 8:45 am]

BILLING CODE 4210-29-P